DEPARTMENT OF LABOR

Employment and Training Administration

[TA-W-60,692]

Anaheim Manufacturing Company, a Subsidiary of Western Industries, Including On-Site Leased Workers From Selectemp; Anaheim, CA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on January 12, 2007, applicable to workers of Anaheim Manufacturing Company, a subsidiary of Western Industries, Anaheim, California, including on-site leased workers from Selectemp. The notice was published in the Federal Register on January 25, 2007 (72 FR 3424).

At the request of the State agency, the Department reviewed the certification for workers of the subject firm. The workers are engaged in the production of food waste disposers. Review of the certification shows that there was a typographical error in the heading of the document which indicated that the workers are certified eligible to apply for alternative trade adjustment assistance (ATAA). The heading should have read, “Certification Regarding Eligibility to Apply for Worker Adjustment Assistance and Negative Determination Regarding Eligibility to Apply for Alternative Trade Adjustment Assistance.” The Department concluded in its initial ATAA investigation that workers of the subject firm possess skills that are easily transferable to other positions in the local area. Therefore, the worker group cannot be certified eligible to apply for ATAA. Accordingly, the certification is being amended to correct this error.

The amended notice applicable to TA-W-60,692 is hereby issued as follows:

All workers of Anaheim Manufacturing Company, a subsidiary of Western Industries, Anaheim, California, including on-site leased workers from Selectemp, who became totally or partially separated from employment on or after September 25, 2006 through two years from the date of certification, are eligible to apply for adjustment assistance under Section 223 of the Trade Act of 1974.

I further determine that all workers of Anaheim Manufacturing Company, a subsidiary of Western Industries, Anaheim, California, including on-site leased workers from Selectemp, are denied eligibility to apply for alternative trade adjustment assistance under Section 246 of the Trade Act of 1974.

Signed in Washington, DC, this 20th day of February 2007.
Linda G. Poole,
Certifying Officer, Division of Trade Adjustment Assistance.

[FR Doc. E7-3461 Filed 2-27-07; 8:45 am]

BILLING CODE 4510-FN-P